Proclamation 9648 of September 29, 2017

National Cybersecurity Awareness Month, 2017

By the President of the United States of America

A Proclamation

All Americans are affected by threats to our Nation's cybersecurity. In recent years, bad actors in cyberspace have launched attacks on a cross-section of America: businesses both small and large, State and local governments, schoolhouses, hospitals, and infrastructure critical to public safety and national security. My Administration is committed to protecting Americans against these threats. During Cybersecurity Awareness Month, we reflect on our Nation's increasing reliance on technology and the internet and raise awareness about the importance of cybersecurity. Keeping our Nation secure in the face of cyber threats is our shared responsibility. Our agility and resilience in responding to these threats will improve as our collective awareness about their nature improves.

On May 11, 2017, I signed an Executive Order entitled Strengthening the Cybersecurity of Federal Networks and Critical Infrastructure to counter the serious and increasing cyber threats facing our Nation. My Executive Order will help secure Federal networks that operate on behalf of American citizens, improve coordination with industry to protect the critical infrastructure that maintains our American way of life, strengthen our cyber deterrence posture, and promote the development of a highly capable and sustainable cybersecurity workforce.

Together, these efforts will help ensure that our country remains secure and safe from 21st century cyber threats, while keeping the internet viable, valuable, and safe for future generations. Through my Administration's cybersecurity policies, America and the world will continue on a path toward a more open and secure internet—one that fosters innovation and spurs economic prosperity. We will accomplish this while respecting privacy and preventing cyber disruption, fraud, and theft.

This month in particular, I encourage public and private-sector organizations to work together to provide Americans with the information, guidance, and tools they need to improve their safety and security in the digital age. I also encourage every American to learn more about how to protect themselves and their businesses through the Department of Homeland Security's Stop.Think.Connect. campaign.

NOW, THEREFORE, I, DONALD J. TRUMP, President of the United States of America, by virtue of the authority vested in me by the Constitution and the laws of the United States, do hereby proclaim October 2017 as National Cybersecurity Awareness Month. I call upon the people, companies, and institutions of the United States to recognize the importance of cybersecurity and to observe this month through events, training, and education to further our country's national security and resilience.

IN WITNESS WHEREOF, I have hereunto set my hand this twenty-ninth day of September, in the year of our Lord two thousand seventeen, and of the Independence of the United States of America the two hundred and forty-second.

[FR Doc. 2017-21551

Filed 10-3-17; 11:15 am]

Billing code 3295-F7-P